DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the control of the Thomas Burke Memorial Washington State Museum (Burke Museum), University of Washington, Seattle, WA. The human remains were removed from Jefferson County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum professional staff in consultation with representatives of the Hoh Indian Tribe of the Hoh Indian Reservation, Washington; Jamestown S'Klallam Tribe of Washington; Port Gamble Indian Community of the Port Gamble Reservation, Washington; Quileute Tribe of the Quileute Reservation Washington; and Skokomish Indian Tribe of the Skokomish Reservation, Washington.

Sometime before 1952, human remains representing a minimum of one individual were removed from south of Brinnon in Jefferson County, WA, by Sherry Berthiaume. The human remains were subsequently transferred to the Burke Museum in 1952 (Burke Accn. #3800). No known individual was identified. No associated funerary objects are present.

The human remains are consistent with Native American morphology and therefore have been determined to be Native American. Brinnon is within the territory of the Twana people. Twana is a dialect of the Salish language and is represented by three subgroups: Skokomish, Duhelelips, and Kolsids. The Twana are represented by the present-day Skokomish Indian Tribe of the Skokomish Reservation, Washington.

Brinnon is part of the aboriginal territory of the Skokomish as defined by the 1855 Treaty of Point-No-Point. Other ethnographic and legal documentation is consistent with this determination (Indian Claims Commission; Elmendorf 1960; Mooney 1896; Handbook of North American Indians 1990; Smith 1940).

Officials of the Burke Museum have determined that, pursuant to 25 U.S.C. 3001 (9- 10), the human remains described above represent the physical remains of one individual of Native American ancestry. Officials of the Burke Museum have determined that, pursuant to 25 U.S.C. 3001 (2), there is a relationship of shared group identity that can be reasonably traced between the Native American human remains and the Skokomish Indian Tribe of the Skokomish Reservation, Washington.

Representatives of any other Indian tribe that believes itself to be culturally affiliated with the human remains should contact Dr. Peter Lape, Burke Museum, University of Washington, Box 353010, Seattle, WA 98195-3010, telephone (206) 685-2282, before September 12, 2008. Repatriation of the human remains to the Skokomish Indian Tribe of the Skokomish Reservation, Washington may proceed after that date if no additional claimants come forward.

The Burke Museum is responsible for notifying the Hoh Indian Tribe of the Hoh Indian Reservation, Washington; Jamestown S'Klallam Tribe of Washington; Port Gamble Indian Community of the Port Gamble Reservation, Washington; Quileute Tribe of the Quileute Reservation, Washington; and Skokomish Indian Tribe of the Skokomish Reservation, Washington that this notice has been published.

Dated: July 16, 2008
Sherry Hutt,
Manager, National NAGPRA Program.

[FR Doc. E8-18673 Filed 8-12-08; 8:45 am]

BILLING CODE 4312-50-S